NUCLEAR REGULATORY COMMISSION

[Docket No. 72-8; NRC-2011-0085]

Exelon Generation Corporation, LLC; Calvert Cliffs Independent Spent Fuel Storage Installation

AGENCY: Nuclear Regulatory Commission.

ACTION: License renewal; issuance.

SUMMARY: The U.S. Nuclear Regulatory Commission (NRC) has issued a renewed license to Exelon Generation Corporation, LLC (Exelon Generation), for its Materials License SNM-2505 for the receipt, possession, transfer, and storage of spent fuel at the Calvert Cliffs independent spent fuel storage installation (ISFSI), located in Calvert County, Maryland. The renewed license authorizes operation of the Calvert Cliffs ISFSI in accordance with the provisions of the renewed license and its Technical Specifications (TS). The renewed license expires on November 30, 2052.

DATES: October 29, 2014.

ADDRESSES: Please refer to Docket ID NRC-2011-0085 when contacting the NRC about the availability of information regarding this document. You may obtain publicly-available information related to this document using any of the following methods:

• Federal Rulemaking Web site: Go to http://www.regulations.gov and search for Docket ID NRC-2011-0085. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: John Goshen, Office of Nuclear Material Safety and Safeguards, U.S. Nuclear Regulatory Commission, Washington, DC 20555; telephone: 301-287-9250; email: John.Goshen@nrc.gov.

SUPPLEMENTARY INFORMATION: Based upon the application dated September 17, 2010, as supplemented February 10, June 28 and December 15, 2011; July 27, 2012; June 14, 2013; and April 24, and September 8, 2014, the U.S. NRC has issued a renewed license to Exelon Generation Corporation, LLC (Exelon Generation), for its Calvert Cliffs independent spent fuel storage installation (ISFSI), located in Calvert County, Maryland. The renewed license authorizes and requires operation of the Calvert Cliffs ISFSI in accordance with the provisions of the renewed license and its TS. The renewed license will expire on November 30, 2052. Exelon's application for a renewed license complies with the standards and requirements of the Atomic Energy Act of 1954 (the Act), as amended, and the Commission's rules and regulations. The Commission has made appropriate findings as required by the Act and the Commission's regulations in chapter 1 of Title 10 of the Code of Federal Regulations (10 CFR), and sets forth those findings in the renewed license. The agency afforded an opportunity for a hearing in the Notice of Opportunity for a Hearing published in the Federal Register on April 25, 2011 (76 FR 22935). The NRC received no request for a hearing or petition for leave to intervene following the notice.

The NRC staff prepared a safety evaluation report (SER) for the renewal of the ISFSI license and concluded, based on that evaluation, the ISFSI will continue to meet the regulations in 10 CFR part 72. The NRC staff also prepared an Environmental Assessment (EA) and Finding of No Significant Impact for the renewal of this license on June 8, 2012 (77 FR 34093). The EA and Finding of No Significant Impact, which was re-issued on October 23, 2014, (79 FR 63444), and includes the NRC staff's consideration of the impacts of continued storage of spent nuclear fuel (as documented in NUREG-2157, “Generic Environmental Impact Statement for Continued Storage of Spent Fuel”) as an appendix to the EA, concluded that renewal of this ISFSI license will not have a significant impact on the quality of the human environment.

Availability of Documents: The ADAMS accession numbers for the documents related to this notice are:

1 | Applicant's application, dated September 17, 2010 | ML102650247
2 | Response to First Request for Supplemental Information, dated February 10, 2011 | ML110620134
3 | Response to Second Request for Supplemental Information, dated March 9, 2011 | ML110730720
4 | Response to First Request for Additional Information, dated June 28, 2011 | ML11180A270
5 | Response to Second Request for Additional Information, dated December 15, 2011 | ML113640129
6 | Response to Third Request for Supplemental Information, dated July 27, 2012 | ML12212A216
7 | Partial Response to Third Request for Additional Information, dated June 14, 2013 | ML131700610
8 | Supplemental Response to Third Request for Additional Information, dated April 24, 2014 | ML131190290
9 | Response to Fourth Request for Additional Information, dated September 18, 2014 | ML14267A065
10 | NRC Safety Evaluation Report | ML14274A038

Dated at Rockville, Maryland, this 23rd day of October 2014.
Michele M. Sampson,
Chief, Spent Fuel Licensing Branch, Division of Spent Fuel Management, Office of Nuclear Material Safety and Safeguards.

[FR Doc. 2014-25758 Filed 10-28-14; 8:45 am]

BILLING CODE 7590-01-P